DEPARTMENT OF THE TREASURY

Internal Revenue Service

26 CFR Part 702

[TD 9432]

RIN 1545-BH36

Payments From the Presidential Primary Matching Payment Account

AGENCY: Internal Revenue Service (IRS), Treasury.

ACTION: Final regulations and removal of temporary regulations.

SUMMARY: This document contains final regulations under section 9037 of the Internal Revenue Code (Code) relating to the financing of presidential primary campaigns. The regulations relate to Treasury procedures for making payments from the Presidential Primary Matching Payment Account (Primary Account) to eligible primary candidates. These regulations affect all candidates eligible to receive payments from the Primary Account.

DATES: Effective Date: These regulations are effective on November 13, 2008.

Applicability Date: For dates of applicability, see 702.9037-1(b) and 702.9037-2(c).

FOR FURTHER INFORMATION CONTACT: Karla M. Meola, (202) 622-4930 (not a toll-free number).

SUPPLEMENTARY INFORMATION:

Background

This document contains amendments to 26 CFR part 702 under section 9037 of the Code. On February 14, 2008, the IRS published temporary regulations (TD 9382, 2008-9 IRB 482) in the Federal Register (73 FR 8608). On the same date, the IRS published a notice of proposed rulemaking (REG-149475-07, 2008-9 IRB 510) in the Federal Register (73 FR 8632) cross-referencing the temporary regulations.

The notice of proposed rulemaking provided that, pursuant to section 9036, the Federal Election Commission (Commission) will certify to the Treasury Secretary the full amount of payments to which a candidate is entitled under section 9034. The Treasury Secretary will pay promptly, but not before the start of a Presidential election year, the amounts certified by the Commission from the Primary Account to the candidate. The notice of proposed rulemaking also authorized the Treasury Secretary to provide guidance prescribing rules and procedures for the Primary Account. Contemporaneously with the publication of the notice of proposed rulemaking, the IRS published Rev. Proc. 2008-15 (2008-9 IRB 489), which revises the procedures for making prompt payment from the Primary Account to eligible primary candidates.

The notice of proposed rulemaking invited comments and requests for a public hearing, but no comments were received and no public hearing was requested or held. Accordingly, this Treasury decision adopts the proposed regulations without modification as final regulations.

Special Analyses

It has been determined that this Treasury decision is not a significant regulatory action as defined in Executive Order 12866. Therefore, a regulatory assessment is not required. It has also been determined that section 553(b) of the Administrative Procedure Act (5 U.S.C. chapter 5) does not apply to these regulations, and because the regulation does not impose a collection of information on small entities, the Regulatory Flexibility Act (5 U.S.C. chapter 6) does not apply. Pursuant to section 7805(f) of the Code, this regulation has been submitted to the Chief Counsel for Advocacy of the Small Business Administration for comment on its impact on small business.

Drafting Information

The principal author of these regulations is Karla M. Meola of the Office of Associate Chief Counsel (Income Tax & Accounting). However, other personnel from the IRS and Treasury Department participated in their development.

Adoption of Amendments to the Regulations

Accordingly, 26 CFR part 702 is amended as follows:

PART 702—PRESIDENTIAL PRIMARY MATCHING PAYMENT ACCOUNT

Paragraph 1. The authority citation for part 702 continues to read in part as follows:

Authority: 26 U.S.C. 7805 * * *

§§ 702.9037-1T [Removed]

Par. 2. Section 702.9037-1T is removed.

Par. 3. Revise § 702.9037-1 to read as follows:

§ 702.9037-1 Transfer of amounts to the Presidential Primary Matching Payment Account.

(a) In general. The Secretary will deposit amounts into the Presidential Primary Matching Payment Account (Primary Account) only to the extent that there are amounts in the Presidential Election Campaign Fund (Fund) after the transfers prescribed by § 701.9006-1(c) and (d). The Secretary will make this deposit promptly from amounts that have actually been transferred to the Fund under § 701.9006-1(a). Any amounts in the Primary Account after October 31 following a presidential election will be returned to the Fund for the purpose of making the transfers prescribed by § 701.9006-1(c), (d), and (f) for the next presidential election.

(b) Effective/applicability date. These regulations apply to the Primary Account on or after February 2, 1996.

§ 702.9037-2T [Removed]

Par. 4. Section 702.9037-2T is removed.

Par. 5. Revise § 702.9037-2 to read as follows:

§ 702.9037-2 Payments from the Presidential Primary Matching Payment Account.

(a) In general. Pursuant to section 9036, the Federal Election Commission (Commission) will certify to the Secretary the full amount of payment to which a candidate is entitled under section 9034. The Secretary will pay promptly, but not before the start of the matching payment period under section 9032(6), the amounts certified by the Commission from the Presidential Primary Matching Payment Account (Primary Account) to the candidate.

(b) Additional guidance. The Internal Revenue Service may publish guidance in the Internal Revenue Bulletin (see § 601.601(d)(2)(ii)(b) of this chapter) prescribing additional rules and procedures for the Primary Account.

(c) Effective/applicability date. These regulations apply to the Primary Account on or after February 2, 1996.

Linda E. Stiff,
Deputy Commissioner for Services and Enforcement.
Approved: October 28, 2008.
Eric Solomon,
Assistant Secretary of the Treasury (Tax Policy).

[FR Doc. E8-26639 Filed 11-12-08; 8:45 am]

BILLING CODE 4830-01-P